DEPARTMENT OF TRANSPORTATION

Office of the Secretary

[Docket No. DOT-OST-2021-0056]

Extension of the Comment Deadline Date; Request for Information on Transportation Equity Data

AGENCY: Office of the Secretary (OST), Department of Transportation (DOT).

ACTION: Notice of extension for request for information (RFI).

SUMMARY: On May 25, 2021, DOT published in the Federal Register a request for information (RFI) regarding an potential data and assessment tools that could assist in the ongoing and continuous evaluation of Federal policies and programs concerning equitable services and safety in the transportation sector. The RFI is assisting the DOT in responding to the Executive Order 13985, “Advancing Racial Equity and Support for Underserved Communities Through the Federal Government” (Equity E.O.). This notice extends the deadline date for receiving comments until July 22, 2021 at 5:00 p.m. (ET).

DATES: Responses to the RFI must be received by July 22, 2021, no later than 5:00 p.m. (ET) to ensure consideration of your views.

ADDRESSES: Written comments may be submitted using any one of the following methods:

• Electronic mail: Email comments to transportationequity@dot.gov. Responses must be provided as attachments to an email. It is recommended that attachments with file sizes exceeding 25MB be compressed (i.e., zipped) to ensure message delivery. Responses must be provided as a Microsoft Word (.docx) attachment to the email, and be no more than 5 pages in length, with 12-point font and 1-inch margins.

• Internet: To submit comments electronically, go to the Federal regulations website at http://www.regulations.gov. Search by using the docket number (DOT-OST-2021-0056). Follow the online instructions for submitting comments.

Respondents may answer as many or as few questions (see the questions below) as they wish.

Responses are preferred in one file submission, in a question and response manner. DOT will not respond to individual submissions but will publish publicly a compendium of responses. A response to this RFI will not be viewed as a binding commitment to develop or pursue the ideas proposed.

Respondents are requested to provide the following information at the beginning of their response to this RFI:

• Contact name/Institution name

• Institution contact

• Address, phone number, and email address

DOT looks forward to your submission in response to this notice.

FOR FURTHER INFORMATION CONTACT: The monitored inbox at transportationequity@dot.gov. You may also contact Maya Sarna at maya.sarna@dot.gov or (202) 366-5811.

Please reference “RFI for Transportation Equity Data” in the subject line when submitting your email.

SUPPLEMENTARY INFORMATION:

Notice of Public Webinar

On June 18, 2021 DOT will hold a public webinar to broadly discuss the actions DOT has taken to respond to the Equity E.O. Details of the public webinar are noted below. The public webinar requires registration and will be open to the first 500 unique registrants. The DOT requests that multiple participants from the same organization wishing to attend the public webinar limit registration to no more than 10 participants.

Date: Friday, June 18, 2021

Time: 2:00 p.m.-3:00 p.m. (ET)

Registration Link: www.transportation.gov/equity

DOT invites the public, transportation equity thought leaders, advocacy groups and stakeholders to provide input on the critical first steps in this process. This notice is not a Solicitation, and it does not seek the submission of formal, binding quotations/proposals. In the event OST-P determines that services will be procured, a formal Request for Quote/Proposal will be issued. OST-P cannot and will not reimburse any organization for its time, effort, or costs expended in responding to this RFI.

Issued on: June 8, 2021.
Irene Marion,
Director, Office of Civil Rights.

[FR Doc. 2021-12328 Filed 6-11-21; 8:45 am]

BILLING CODE 4910-9X-P